DEPARTMENT OF COMMERCE

National Oceanic and Atmospheric Administration

[I.D. 021402C]

Marine Mammals; File No. 1021-1658

AGENCY: National Marine Fisheries Service (NMFS), National Oceanic and Atmospheric Administration (NOAA), Commerce.

ACTION: Receipt of application.

SUMMARY: Notice is hereby given that Jenifer A. Hurley, Ph.D., Moss Landing Marine Laboratories, 8272 Moss Landing Road, Moss Landing, CA 95039, has applied in due form for a permit to take California sea lions (Zalophus californianus) and harbor seals (Phoca vitulina) for purposes of scientific research.

DATES: Written or telefaxed comments must be received on or before March 29, 2002.

ADDRESSES: The application and related documents are available for review upon written request or by appointment in the following office(s):

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Ruth Johnson or Amy Sloan (301) 713-2289.

SUPPLEMENTARY INFORMATION: The subject permit is requested under the authority of the Marine Mammal Protection Act of 1972, as amended (MMPA; 16 U.S.C. 1361 et seq.), the Regulations Governing the Taking and Importing of Marine Mammals (50 CFR part 216).

The applicant proposes to obtain up to 10 California sea lions (CSL) and 5 harbor seals (HS) with no more than 8 animals (6 CSL and 2 HS) maintained at any given time. Animals will be obtained from rehabilitation centers, Naval facilities, or aquaria to be used in the research program. All research projects are accomplished through the cooperative assistance of trained marine mammals. The three proposed areas of research focus include physiology research, veterinary medicine, and ocean exploration. First, physiology experiments will be performed in both the laboratory and free release settings in the open ocean, continuing on and building on previous physiology studies. Different aspects of diving, swimming, and resting physiology will be studied comparatively including metabolism, heart rate, respiratory rate, body temperature, and substrate utilization. Second, the veterinary medicine studies will investigate health issues of marine mammals, including a plan to determine if marine mammals have Helicobacter present in stomach mucous and explore possible antibiotic treatments. Third, for the ocean exploration studies, CSLs will be trained to perform open ocean activities to include carrying cameras for benthic surveys and to assist in nautical archaeology.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: February 21, 2002.
Ann D. Terbush,
Chief, Permits, Conservation and Education Division, Office of Protected Resources, National Marine Fisheries Service.

[FR Doc. 02-4673 Filed 2-26-02; 8:45 am]

BILLING CODE 3510-22-S